DEPARTMENT OF HEALTH AND HUMAN SERVICES

Centers for Disease Control and Prevention

Advisory Committee to the Director, Centers for Disease Control and Prevention: Teleconference

In accordance with section 10(a)(2) of the Federal Advisory Committee Act (Pub. L. 92-463), the Centers for Disease Control and Prevention (CDC) announces the following Advisory Committee meeting.

Name: Advisory Committee to the Director (ACD), CDC teleconference.

Time and Date: 1 p.m.-2:30 p.m., August 07, 2008.

Place: The conference call will originate at the Centers for Disease Control and Prevention, 1600 Clifton Road, Atlanta, GA 30333. Please see Supplementary Information for details on accessing the conference call.

Status: Open to the public, limited only by the availability of telephone ports.

Purpose: The committee will provide advice to the CDC Director on strategic and other broad issues facing CDC.

Matters to be Discussed: The two major discussions that will be covered during the conference call are healthiest nation and globalization. Agenda items are subject to change as priorities dictate.

Supplementary Information: This conference call is scheduled to begin at 1 p.m., Eastern Standard Time. To participate in the conference call, please dial 1-888-843-6162 and reference passcode 1224940.

For Further Information Contact: Priscilla Patin, Management and Program Analyst, Office of the Director, CDC, 1600 Clifton Road, NE., M/S D-14, Atlanta, Georgia 30333. Telephone 404-639-7000.

The Director, Management Analysis and Services Office, has been delegated the authority to sign Federal Register notices pertaining to announcements of meetings and other committee management activities, for both the Centers for Disease Control and Prevention and the Agency for Toxic Substances and Disease Registry.

Dated: July 8, 2008.
Diane Allen,
Acting Director, Management Analysis and Services Office, Centers for Disease Control and Prevention.

[FR Doc. E8-15984 Filed 7-11-08; 8:45 am]

BILLING CODE 4163-18-P